ENVIRONMENTAL PROTECTION AGENCY

[FRL-9632-6]

Public Water System Supervision Program Approval for the State of Illinois; Tentative Approval

AGENCY: Environmental Protection Agency (EPA).

ACTION: Notice.

SUMMARY: Notice is hereby given that the State of Illinois submitted a primacy application for its approved Public Water System Supervision Program. Illinois is applying its Long Term 2 Enhanced Surface Water Treatment Regulations to all Illinois water systems that use surface water and ground water under the influence of surface water as a source, thereby satisfying the requirements of the Long-Term 2 Enhanced Surface Water Treatment Rule. Illinois is also applying its Stage 2 Disinfectants and Disinfection By-products Regulations to all Illinois community and noncommunity water systems that add and/or deliver water that is treated with a primary or residual disinfectant other than ultraviolet light, thereby satisfying the requirements of the Stage 2 Disinfectants and Disinfection Byproducts Rule.

EPA has determined that the state regulations and procedures submitted by the State to EPA for review are no less stringent than the corresponding federal regulations. Therefore, EPA intends to award primacy to Illinois for Long-Term 2 Enhanced Surface Water Treatment and Stage 2 Disinfectants and Disinfection By-product Rules implementation. Any interested party may request a public hearing. A request for a public hearing must be submitted by March 16, 2012, to the Regional Administrator at the EPA Region 5 address shown below. The Regional Administrator may deny frivolous or insubstantial requests for a hearing. However, if a substantial request for a public hearing is made by March 16, 2012; EPA Region 5 will hold a public hearing. If EPA Region 5 does not receive a timely and appropriate request for a hearing and the Regional Administrator does not elect to hold a hearing on her own motion, this determination shall become final and effective on March 16, 2012. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Illinois Pollution Control Board at the James R. Thompson Center, 100 W. Randolph, Suite 11-500, Chicago, Illinois 60601, and the United States Environmental Protection Agency, Region 5, Ground Water and Drinking Water Branch (WG-15J), 77 West Jackson Boulevard, Chicago, Illinois 60604.

FOR FURTHER INFORMATION CONTACT: Janet Kuefler, EPA Region 5, Ground Water and Drinking Water Branch, at the address given above, by telephone at (312) 582-5814, or at kuefler.janet@epa.gov.

Authority: Section 1413 of the Safe Drinking Water Act, as amended, 42 U.S.C. 300g-2 (1996), and 40 CFR part 142 of the National Primary Drinking Water Regulations.

Dated: January 23, 2012.
Susan Hedman,
Regional Administrator, Region 5.

[FR Doc. 2012-3588 Filed 2-14-12; 8:45 am]

BILLING CODE 6560-50-P